DEPARTMENT OF TRANSPORTATION

Federal Aviation Administration

14 CFR Parts 25, 121, and 129

[Docket No. FAA-2006-24281]

Aviation Rulemaking Advisory Committee Meeting on Transport Airplane and Engine Issues—Aging Aircraft Program: Widespread Fatigue Damage

AGENCY: Federal Aviation Administration (FAA), DOT.

ACTION: Notice of public meeting, reopening of comment period.

SUMMARY: This notice announces a public meeting of the FAA's Aviation Rulemaking Advisory Committee (ARAC) to discuss transport airplane and engine (TAE) issues. The purpose of the meeting is to solicit comments and information on a technical document related to a notice of proposed rulemaking that the FAA published on April 18, 2006, on Widespread Fatigue Damage, and its accompanying initial regulatory evaluation. This notice also announces the opening of a period of public comment on that technical document, which has been posted in docket FAA-2006-24281. Commenters may post their comments in the docket.

DATES: The meeting is scheduled for Thursday, December 11, 2008, starting at 9 a.m. Pacific Standard Time. Persons unable to attend the meeting are invited to provide written comments to the Federal Docket Management System, on or before December 22, 2008. Persons planning to make oral presentations at the meeting must request arrangements for that with the FAA by December 1, 2008 by contacting the appropriate person under the FOR FURTHER INFORMATION CONTACT section. We also ask those who are not planning to make a presentation but are planning to attend the meeting to inform us as well.

ADDRESSES: The meeting will be held at the Best Western Hotel, 15901 West Valley Hwy., Tukwila, WA 98188. Attendance is open to the public, but will be limited to space available. Persons unable to attend the meeting may send comments identified by Docket Number FAA-2006-24281 using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Bring comments to Docket Operations in Room W12-140 of the West Building Ground Floor at 1200 New Jersey Avenue, SE., Washington, DC, between 9 a.m. and 5 p.m., Monday through Friday, except Federal holidays.

• Fax: Fax comments to Docket Operations at 202-493-2251.

Privacy: We will post all comments we receive, without change, to http://www.regulations.gov, including any personal information you provide. Using the search function of our docket Web site, anyone can find and read the electronic form of all comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time and follow the online instructions for accessing the docket. Or, go to the Docket Operations in Room W12-140 of the West Building Ground Floor at 1200 New Jersey Avenue, SE., Washington, DC, between 9 a.m. and 5 p.m., Monday through Friday, except Federal holidays.

FOR FURTHER INFORMATION CONTACT: Requests to present a statement at the meeting or questions regarding the logistics of the meeting, as well as responses from persons planning to attend the meeting, should be directed to Annette Kovite, Federal Aviation Administration, Transport Airplane Directorate, Aircraft Certification Service, Standardization Branch, ANM-113, 1601 Lind Avenue, SW., Renton, WA 98057-3356; telephone (425) 227-1262; fax (425) 227-1320; e-mail: Annette.Kovite@faa.gov. Please provide us with the following information: Full legal name, country of citizenship, and name of your industry association or applicable affiliation. If you are attending as a private citizen, please indicate that.

Questions concerning this proposed rule should be directed to Walter Sippel, FAA, Transport Airplane Directorate, Aircraft Certification Service, Transport Airplane Airframe/Cabin Safety Branch, ANM-115, 1601 Lind Avenue, SW., Renton, WA 98057-3356; telephone (425) 227-2774, fax (425) 227-1232, e-mail: walter.sippel@faa.gov.

SUPPLEMENTARY INFORMATION: Pursuant to Section 10(a)(2) of the Federal Advisory Committee Act (Pub. L. 92-463; 5 U.S.C. app. III), notice is given of an ARAC meeting to be held at the Best Western Hotel in Tukwila, WA on December 11, 2008. This ad hoc meeting is being held to review and receive public comments on changes made to the notice of proposed rulemaking and initial regulatory evaluation on Widespread Fatigue Damage published on April 18, 2006 (74 FR 19928).

The agenda for the meeting is as follows:

• Opening remarks.

• Presentation and explanation of technical document related to notice of proposed rulemaking No. 06-04, Aging Aircraft Program: Widespread Fatigue Damage, published on April 18, 2006 (71 FR 19928), and its accompanying initial regulatory evaluation, which may be found in Docket FAA-2006-24281.

• Oral presentation of public comments.

Background

The FAA received extensive comments on the Widespread Fatigue Damage (WFD) notice of proposed rulemaking (74 FR19928) and on the estimated costs and benefits of that proposed rule specified in its accompanying regulatory evaluation, which may be found in the docket. Based on those comments, and on our analysis of those comments, we have developed a technical document that suggests changes to both the proposed rule and to the assumptions made in our initial regulatory evaluation. Those changes could decrease the estimated cost of the proposed rule from $360 million to $4 million in present value.

Comment Period

To allow the public to comment on the technical document we are reopening the comment period. We have posted it in the docket for the Widespread Fatigue Damage rulemaking (FAA-2006-24281) with the title “Technical Document—Aging Aircraft Program: Widespread Fatigue Damage.” A period of public comment on that document begins with publication of this notice in the Federal Register and ends on December 22, 2008. Public comments may be posted to the docket at any time during the comment period by following any of the means of posting comments listed in the ADDRESSES section of this document. In addition, as discussed below, we invite attendance at the public meeting of ARAC on Transport Airplane and Engine Issues on December 11, 2008, where people may make comments in person. If you are posting comments to the docket and would like us to address them at the meeting, it would help us if you would post those comments by December 1. All comments posted to the docket will be considered, but we may not be able to address late-posted comments at the meeting.

Participation at the Meeting

The purpose of the meeting of the Transport Airplane and Engine Issues Group on December 11, 2008, is to discuss the technical document and the effect our analysis could have on the proposed rule and initial regulatory evaluation for Widespread Fatigue Damage. The public is invited to make oral presentations and comments on the technical document at this meeting. To assist us in planning for this meeting, please notify us by December 1, 2008 if you are planning to attend. Persons who wish to present oral statements at the meeting should arrange with the FAA in advance for time to do this at the meeting. We should receive requests from persons who wish to present oral statements at the meeting no later than December 1, 2008. Requests to speak should include a written summary of oral remarks to be presented and an estimate of time needed for the presentation. An agenda of speakers will be available at the meeting. The names of those individuals who make their request to present oral statements after the date specified above may not appear on the written agenda. To accommodate as many speakers as possible, the amount of time allocated to each speaker may be less than the amount of time requested. Persons requiring audiovisual equipment should notify the FAA when requesting to be placed on the agenda.

Public Meeting Procedures

The FAA will use the following procedures to facilitate the meeting:

(1) There will be no admission fee or other charge to attend or to participate in the meeting. The meeting will be open to all persons who are scheduled to attend or present statements or who register between 8 a.m. and 9 a.m. on the day of the meeting. While the FAA will make every effort to accommodate all persons wishing to participate, admission will be subject to availability of space in the meeting room. Advising us in advance if you're planning to attend the meeting will help us plan for adequate room to accommodate those who wish to attend. The meeting may adjourn early if scheduled speakers complete their statements in less time than is scheduled for the meeting.

(2) An individual presenting oral remarks, whether speaking in a personal capacity or as a representative of an organization, may be limited to a 10-minute statement. If possible, we will notify the speaker if additional time is available.

(3) We will try to accommodate all speakers. If the available time does not permit this, speakers generally will be scheduled on a first-come-first-served basis. However, the FAA reserves the right to exclude some speakers if necessary to present a balance of viewpoints and issues.

(4) If you need assistance or require a reasonable accommodation for the meeting or meeting documents, please contact Annette Kovite, listed in the FOR FURTHER INFORMATION CONTACT section. Sign and oral interpretation can be made available at the meeting, as well as an assistive listening device, if requested by December 1, 2008.

(5) The committee's Assistant Chair for Transport Airplane and Engine Issues will preside over the meeting. The Designated Federal Official and a panel of FAA personnel involved in this rulemaking will be present to address the technical document and questions and comments presented.

(6) The meeting will be recorded by a court reporter. A transcript of the meeting and any material accepted by the FAA representatives during the meeting will be included in the public docket. Any person who is interested in purchasing a copy of the transcript should contact the court reporter directly. Additional transcript purchase information will be available at the meeting.

(7) The FAA will review and consider all material presented by participants at the meeting. Position papers or material presenting views or arguments related to the rulemaking may be accepted at the discretion of the presiding officer and subsequently placed in the public docket. We request that persons participating in the meeting provide enough copies of all materials for distribution to the committee and FAA representatives; other copies may be provided to the audience at the discretion of the participant.

(8) Statements made by FAA representatives are intended to facilitate discussion of the issues or to clarify issues. Any statement made during the meeting by an FAA representative is not intended to be, and should not be construed as, a position of the FAA.

(9) The meeting is designed to solicit public views and gather additional information on the rulemaking. Therefore, the meeting will be conducted in an informal and non-adversarial manner. No individual will be subject to cross-examination by any other participant; however, FAA representatives may ask questions to clarify a statement and to ensure a complete and accurate record.

Issued in Washington, DC, on November 3, 2008.
Pamela Hamilton-Powell,
Director, Office of Rulemaking.

[FR Doc. E8-26566 Filed 11-6-08; 8:45 am]

BILLING CODE 4910-13-P